INTERNATIONAL TRADE COMMISSION

[USITC SE-17-027]

Sunshine Act Meeting

AGENCY HOLDING THE MEETING: United States International Trade Commission.

TIME AND DATE: July 12, 2017 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-410 (Fourth Review) (Light-Walled Rectangular Pipe from Taiwan). The Commission is currently scheduled to complete and file its determination and views of the Commission by July 25, 2017.

5. Vote in Inv. No. 731-TA-703 (Fourth Review) (Furfuryl Alcohol from China). The Commission is currently scheduled to complete and file its determination and views of the Commission by July 28, 2017.

6. Outstanding action jackets: None.

In accordance with Commission policy, subject matter listed above, not disposed of at the scheduled meeting, may be carried over to the agenda of the following meeting.

By order of the Commission.
Issued: July 5, 2017.
William R. Bishop,
Supervisory Hearings and Information Officer.

[FR Doc. 2017-14450 Filed 7-6-17; 11:15 am]

BILLING CODE 7020-02-P